ENVIRONMENTAL PROTECTION AGENCY

40 CFR Part 300

[EPA-HQ-SFUND-1990-0011; FRL-9963-94-Region 8]

National Oil and Hazardous Substances Pollution Contingency Plan National Priorities List: Partial Deletion of the Mystery Bridge Road/U.S. Highway 20 Superfund Site

AGENCY: Environmental Protection Agency (EPA).

ACTION: Proposed rule; notice of intent.

SUMMARY: The Environmental Protection Agency (EPA) Region 8 is issuing a notice of Intent to Partially Delete the property currently owned by Tallgrass Energy Partners, LP (formerly owned by KM Upstream LLC and hereinafter referred to as the former KMI Property), on the Mystery Bridge Road/U.S. Highway 20 Site (Site) from the National Priorities List (NPL). The Site is located in Natrona County, northeast of Casper, Wyoming. EPA requests public comment on this proposed action. The NPL, promulgated pursuant to section 105 of the Comprehensive Environmental Response, Compensation, and Liability Act (CERCLA) of 1980, as amended, is an appendix of the National Oil and Hazardous Substances Pollution and Contingency Plan (NCP). The EPA and the State of Wyoming, through the Wyoming Department of Environmental Quality (WDEQ), have determined that all appropriate response actions, other than maintenance of institutional controls and five-year reviews, have been completed for the former KMI source area and the resultant groundwater contamination. However, this deletion does not preclude future actions under Superfund.

This partial deletion pertains to the former KMI Property of OU1 and OU2 formerly containing the benzene, toluene, ethylbenzene, and total xylenes (collectively known as BTEX) groundwater plume and source soils, respectively. The remaining area and media of both OU1 and OU2 containing the volatile halogenated organic chemicals (VHOs) source soils and plume, which are attributable to the Dow Chemical Company/Dowell Schlumberger, Inc. (DOW/DSI) facility, will remain on the NPL and are not being considered for deletion as part of this action. A map and the description of the surveyed boundaries of the former KMI Property are included in the docket and at the information repositories listed below.

DATES: Comments concerning this action must be received by July 31, 2017.

ADDRESSES: Submit your comments, identified by Docket ID no. EPA-HQ-SFUND-1910-0011, by one of the following methods:

• http://www.regulations.gov. Follow on-line instructions for submitting comments.

• Email: Andrew Schmidt (schmidt.andrew@epa.gov)

• Mail: Andrew Schmidt, Remedial Project Manager, 8EPR-SR, Environmental Protection Agency, Region 8, 1595 Wynkoop Street, Denver, CO 80202.

• Hand Delivery: Andrew Schmidt, Remedial Project Manager, 8EPR-SR, Environmental Protection Agency, Region 8, 1595 Wynkoop Street, Denver, CO 80202.

Such deliveries are only accepted during the Docket's normal hours of operation, and special arrangements should be made for deliveries of boxed information.

Instructions: Direct your comments to Docket ID no. EPA-HQ-SFUND-1910-0011. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The Web site, http://www.regulations.gov, is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket

All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at: U.S. EPA Region 8, Superfund Records Center & Technical Library, 1595 Wynkoop Street, Denver, CO 80202-1129.

Viewing hours: 8 a.m. to 4:00 p.m., Monday through Thursday, excluding holidays;

Contact: Andrew Schmidt; (303) 312-6283; email: schmidt.andrew@epa.gov and Natrona County Public Library, Reference Desk, 307 East 2nd Street, Casper, WY 82601-2593, (307) 777-7092.

Monday-Thursday: 9 a.m.-6 p.m.

Friday and Saturday: 9 a.m.-5 p.m.

FOR FURTHER INFORMATION CONTACT: Andrew Schmidt, Remedial Project Manager, 8EPR-SR, U.S. Environmental Protection Agency, Region 8, 1595 Wynkoop Street, Denver, CO 80202-1129, (303) 312-6283, email: schmidt.andrew@epa.gov.

SUPPLEMENTARY INFORMATION: In the “Rules and Regulations” section of the Federal Register, we are publishing a direct final notice of Partial Deletion for the former KMI Property containing portions of Operable Unit 1 and 2, and the former BTEX impacted areas, of the Mystery Bridge Road/U.S. Highway 20 Superfund Site (Site) without prior notice of Intent for Partial Deletion because EPA views this as a noncontroversial revision and anticipates no adverse comment. We have explained our reasons for this partial deletion in the preamble to the direct final notice of Partial Deletion, and those reasons are incorporated herein. If we receive no adverse comment(s) on this partial deletion action, we will not take further action on this notice of Intent for Partial Deletion. If we receive adverse comment(s), we will withdraw the direct final notice of Partial Deletion based on this notice of Intent for Partial Deletion. We will, as appropriate, address all public comments in a subsequent final notice of Partial Deletion based on this notice of Intent for Partial Deletion. We will not institute a second comment period on this notice of Intent for Partial Deletion. Any parties interested in commenting must do so at this time.

For additional information, see the direct final notice of Partial Deletion, located in the Rules section of this Federal Register.

List of Subjects in 40 CFR Part 300

Environmental protection, Air pollution control, Chemicals, Hazardous waste, Hazardous substances, Intergovernmental relations, Penalties, Reporting and recordkeeping requirements, Superfund, Water pollution control, Water supply.

The authority citation for Part 300 is continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Dated: May 1, 2017.
Debra H. Thomas,
Acting Regional Administrator, U.S. Environmental Protection Agency, Region 8.

[FR Doc. 2017-13679 Filed 6-29-17; 8:45 am]

BILLING CODE 6560-50-P